DEPARTMENT OF THE INTERIOR

Bureau of Land Management

[CA-160-1640-HO]

Notice of Emergency Closure in California

AGENCY: Bureau of Land Management (BLM), Interior.

ACTION: Order.

SUMMARY: This Emergency Order temporarily closes to public access BLM managed land to public access at the Riconda Mine Site in San Luis Obispo County, California, in coordination with emergency removal actions initiated by the United States Environmental Protection Agency (EPA).

DATES: This closure will become effective on March 3, 2004. The closure will end upon the termination of EPA actions and removal of EPA equipment, facilities, and personnel at the Rinconada Mine area.

ADDRESSES: Field Manager, Bureau of Land Management, Bakersfield Field Office, 3801 Pegasus Drive, Bakersfield, CA 93308.

FOR FURTHER INFORMATION CONTACT: Kent Varvel, Environmental Protection Specialist, Bakersfield Field Office, Bureau of Land Management, 3801 Pegasus Drive, Bakersfield, CA 93308, telephone 661-391-6138.

SUPPLEMENTARY INFORMATION: The following land is hereby ordered closed to public access: All of the BLM managed land on or immediately adjacent to the Rinconada Mine and located within Township 30 South, Range 14 East, Mount Diablo Meridian, Sections 21 and 28. The mine is located on West Pozo Road, in San Luis Obispo County, 11 miles southeast of Santa Margarita, California. This closure order is established under the authority of 43 CFR 8364.1. Violation of the closure may result in prosecution under 43 CFR 8360.0-7 and is punishable by a fine not to exceed $1,000 and/or imprisonment not to exceed 12 months.

The EPA will shortly begin characterization and removal of environmental contaminants at the Rinconada Mine. This is expected to include soils and abandoned equipment contaminated by mercury. This closure will protect the public from exposure to environmental contaminants at the abandoned mine and protect public property and employees.

This closure order applies to all persons except public employees acting within the scope of their duties and contractors or individuals present to further the objectives of this emergency action. This closure does not apply to emergency service personnel, law enforcement officers, or other public officials acting in the performance of their duties.

Dated: January 20, 2004.
J. Anthony Danna,
Deputy State Director, Natural Resources (CA-930), California State Office.

[FR Doc. 04-4758 Filed 3-2-04; 8:45 am]

BILLING CODE 4310-40-P